DEPARTMENT OF HOUSING AND URBAN DEVELOPMENT

24 CFR Part 81

[Docket No. FR-4790-N-02]

RIN 2501-AC92

HUD's Proposed Housing Goals for the Federal National Mortgage Association (Fannie Mae) and the Federal Home Loan Mortgage Corporation (Freddie Mac) for the Years 2005-2008 and Amendments to HUD's Regulation of Fannie Mae and Freddie Mac Extension of Public Comment Period

AGENCY: Office of the Assistant Secretary for Housing—Federal Housing Commissioner, HUD.

ACTION: Proposed rule; extension of comment period.

SUMMARY: This notice announces an extension of the public comment period on HUD's proposed rule regarding new housing goals for Fannie Mae and Freddie Mac, the government-sponsored enterprises (GSEs), published on May 3, 2004. The May 3, 2004, proposed rule provided for a 60-day public comment period, which would close the public comment period on July 2, 2004. This notice advises that the public comment period has been extended to July 16, 2004.

DATES: Comments must be submitted on or before July 16, 2004.

ADDRESSES: Interested persons are invited to submit written comments regarding this proposed rule to the Regulations Division, Office of General Counsel, Room 10276, Department of Housing and Urban Development, 451 Seventh Street, SW., Washington, DC 20410. All communications should refer to the above docket number and title. Facsimile (FAX) comments and e-mail comments are not acceptable. A copy of each communication submitted will be available for public inspection and copying between 8 a.m. and 5 p.m. weekdays at the above address.

FOR FURTHER INFORMATION CONTACT: Sandra Fostek, Director, Office of Government Sponsored Enterprises, Office of Housing, Room 3150, telephone 202-708-2224. For questions on data or methodology, contact John L. Gardner, Director, Financial Institutions Regulation Division, Office of Policy Development and Research, Room 8212, telephone (202) 708-1464. For legal questions, contact Kenneth A. Markison, Assistant General Counsel for Government Sponsored Enterprises/RESPA or Paul S. Ceja, Deputy Assistant General Counsel for Government Sponsored Enterprises/RESPA, Office of the General Counsel, Room 9262, telephone 202-708-3137. The address for all of these persons is Department of Housing and Urban Development, 451 Seventh Street, SW., Washington, DC 20410. Persons with hearing and speech impairments may access the phone numbers via TTY by calling the Federal Information Relay Service at (800) 877-8399.

SUPPLEMENTARY INFORMATION: On May 3, 2004 (69 FR 24228), HUD published its proposed rule that would establish new housing goals levels for the GSEs for years 2005 through 2008. The new housing goal levels are proposed in accordance with the Federal Housing Enterprises Financial Safety and Soundness Act of 1992 (FHEFSSA) and govern the purchase by Fannie Mae and Freddie Mac of mortgages financing low- and moderate-income housing, special affordable housing, and housing in central cities, and rural areas and other underserved areas. In the May 3, 2004, rule, HUD also proposed to revise the existing regulations to provide enhanced requirements to ensure GSE data integrity.

The May 3, 2004, proposed rule provided for a 60-day public comment period. In addition to the 60-day public comment period, HUD had also posted the rule on its website on April 7, 2004, in advance of publication in the Federal Register. In response to recent requests for additional time to submit public comments, and since the original public comment deadline coincides with the July 4th holiday weekend, HUD is announcing through this notice that it is extending the public comment period on the May 3, 2004, proposed rule for an additional two-week period. The new public comment deadline is July 16, 2004.

Dated: June 28, 2004.
Sean G. Cassidy,
General Deputy Assistant Secretary for Housing.

[FR Doc. 04-14948 Filed 6-28-04; 12:59 pm]

BILLING CODE 4210-27-P